DEPARTMENT OF HEALTH AND HUMAN SERVICES

Agency for Healthcare Research and Quality

Notice of Meetings

AGENCY: Agency for Healthcare Research and Quality (AHRQ), HHS.

ACTION: Notice of Five AHRQ Subcommittee Meetings.

SUMMARY: The subcommittees listed below are part of AHRQ's Health Services Research Initial Review Group Committee. Grant applications are to be reviewed and discussed at these meetings. Each subcommittee meeting will commence in open session before closing to the public for the duration of the meeting. These meetings will be closed to the public in accordance with 5 U.S.C. App. 2 section 10(d), 5 U.S.C. 552b(c)(4), and 5 U.S.C. 552b(c)(6).

DATES: See below for dates of meetings:

1. Healthcare Safety and Quality Improvement Research (HSQR)

Date: June 17-18, 2014 (Open from 8:00 a.m. to 8:30 a.m. on June 17 and closed for remainder of the meeting).

2. Healthcare Effectiveness and Outcomes Research (HEOR)

Date: June 18, 2014 (Open from 8:00 a.m. to 8:30 a.m. on June 18 and closed for remainder of the meeting).

3. Health Care Research and Training (HCRT)

Date: June 19-20, 2014 (Open from 8:00 a.m. to 8:30 a.m. on June 19 and closed for remainder of the meeting).

4. Healthcare Information Technology Research (HITR)

Date: June 25-27, 2014 (Open from 5:30 p.m. to 6:00 p.m. on June 25 and closed for remainder of the meeting).

5. Health System and Value Research (HSVR)

Date: June 26, 2014 (Open from 8:30 a.m. to 9:00 a.m. on June 26 and closed for remainder of the meeting).

ADDRESSES: Hilton Washington DC/Rockville Hotel & Executive Meeting Center, 1750 Rockville Pike, Rockville, MD 20852.

FOR FURTHER INFORMATION CONTACT: (To obtain a roster of members, agenda or minutes of the non-confidential portions of the meetings.)

Mrs. Bonnie Campbell, Committee Management Officer, Office of Extramural Research Education and Priority Populations, AHRQ, 540 Gaither Road, Suite 2000, Rockville, Maryland 20850, Telephone (301) 427-1554.

SUPPLEMENTARY INFORMATION: In accordance with section 10(a)(2) of the Federal Advisory Committee Act (5 U.S.C. App. 2), AHRQ announces meetings of the scientific peer review groups listed above, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

Dated: May 1, 2014.
Richard Kronick,
AHRQ Director.

[FR Doc. 2014-10750 Filed 5-9-14; 8:45 am]

BILLING CODE 4160-90-P